DEPARTMENT OF HEALTH AND HUMAN SERVICES

Administration for Children and Families

Submission for OMB Review; Building Capacity To Evaluate Child Welfare Community Collaborations To Strengthen and Preserve Families (CWCC) Cross-Site Process Evaluation (New Collection)

AGENCY: Office of Planning, Research, and Evaluation; Administration for Children and Families; HHS.

ACTION: Request for public comment.

SUMMARY: The Administration for Children and Families (ACF) at the U.S. Department of Health and Human Services (HHS) intends to collect data for an evaluation of the initiative, Community Collaborations to Strengthen and Preserve Families (also referred to as Child Welfare Community Collaborations [CWCC]). The cross-site process evaluation will provide insight to ACF about the various factors that promote or impede the implementation of child welfare community collaborations.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The evaluation will involve seven data collection requests:

• Four Site Visit Discussion Guides: To systematically document the approaches and strategies used by the first two cohorts of CWCC grantees (FY18 and FY19 awardees), the evaluation team will conduct initial and follow-up interviews with: (1) Project Directors from Lead Grantee organizations and Leaders from partner organizations, and (2) staff from the lead and partner organizations. These interviews will take place during site visits. Each grantee will participate in four site visits.

• Survey Invitee Template: The evaluation team will ask the Project Director of each CWCC grant to fill out a Survey Invitee Template to gather contact information for leaders and staff from lead and partner organizations who the evaluation team will invite to complete the Collaboration Survey (see below).

• Collaboration Survey: This electronic survey will document perceptions that leaders and staff from the CWCC lead and partner organizations have regarding their organizational/group processes, implementation activities, and progress towards goals. This survey will be administered to staff at all grantee and partner organizations on an annual basis during each cohort's grant period.

• Site Visit Planning Template: Each Project Director (or their designee) will complete a Site Visit Planning Template to schedule site visit activities prior to each annual site visit.

Respondents: Leadership and staff from CWCC lead (grantee) organizations and from partner organizations.

Annual Burden Estimates
Instrument | Total number of respondents | Number of responses per respondent | Average burden hours per response | Total burden hours | Annual burden hours
Cohort 1 Data Collection for FY18 Grantees
Site Visit Discussion Guide for Project Directors and Leaders from Partner Organizations—Interview #1 | 12 | 1 | 2 | 24 | 8
Site Visit Discussion Guide for Staff from Lead and Partner Organizations—Interview #1 | 36 | 1 | 1 | 36 | 12
Site Visit Discussion Guide for Project Directors and Leaders from Partner Organizations—Follow-Up Interviews | 12 | 2 | 1.5 | 36 | 12
Site Visit Discussion Guide for Staff from Lead and Partner Organizations—Follow-Up Interviews | 36 | 2 | 1 | 72 | 24
Survey Invitee Template | 4 | 3 | 1 | 12 | 4
Annual Collaboration Survey | 260 | 3 | 0.5 | 390 | 130
Site Visit Planning Template | 4 | 3 | 2 | 24 | 8
Cohort 2 Data Collection for FY19 Grantees
Site Visit Discussion Guide for Project Directors and Leaders from Partner Organizations—Interview #1 | 27 | 1 | 2 | 54 | 18
Site Visit Discussion Guide for Staff from Lead and Partner Organizations—Interview #1 | 81 | 1 | 1 | 81 | 27
Site Visit Discussion Guide for Project Directors and Leaders from Partner Organizations—Follow-Up Interviews | 27 | 2 | 1.5 | 81 | 27
Site Visit Discussion Guide for Staff from Lead and Partner Organizations—Follow-Up Interviews | 81 | 2 | 1 | 162 | 54
Survey Invitee Template | 9 | 3 | 1 | 27 | 9
Annual Collaboration Survey | 585 | 3 | 0.5 | 878 | 293
Site Visit Planning Template | 9 | 3 | 2 | 54 | 18

Estimated Total Annual Burden Hours: 644.

Authority: Section 105(b)(5) of the Child Abuse Prevention and Treatment Act (CAPTA) of 1978 (42 U.S.C. 5106(b)(5)), as amended by the CAPTA Reauthorization Act of 2010 (Pub. L. 111-320).

Mary B. Jones,
ACF/OPRE Certifying Officer.

[FR Doc. 2020-00594 Filed 1-15-20; 8:45 am]

BILLING CODE 4184-25-P